DEPARTMENT OF JUSTICE

Notice of Proposed Consent Decree Under the Clean Air Act

Notice is hereby given that on July 13, 2011, a proposed Consent Decree was lodged with the District Court of Massachusetts, in United States v. Polyfoam Corp., Civil Action No. 4:11-cv-40134.

In this action, the United States sought penalties and injunctive relief for the Defendant's violations of the Clean Air Act, 42 U.S.C. 7401 et seq., at its molded foam manufacturing facility in Northbridge, Massachusetts. To resolve the United States' claims, the Defendant will pay a penalty of $127,500, and will install air emission controls at its plant to reduce its emissions of Volatile Organic Compounds into the air.

The Department of Justice will receive comments relating to the proposed Consent Decrees for a period of thirty (30) days from the date of this publication. Comments should be addressed to the Assistant Attorney General, Environment and Natural Resources Division, and either e-mailed to pubcomment-ees.enrd@usdoj.gov or mailed to P.O. Box 7611, U.S. Department of Justice, Washington, DC 20044-7611, and should refer to the matter as United States v. Polyfoam Corp., DOJ Ref. No. 90-5-2-1-09522.

The proposed Consent Decree may be examined at the Office of the United States Attorney, United States Courthouse, 1 Courthouse Way, Suite 9200, Boston, MA 02210, and at the United States Environmental Protection Agency, 5 Post Office Square, Suite 100, Boston, Massachusetts 02109.

During the public comment period, the proposed agreement may also be examined on the following Department of Justice Web site: http://www.usdoj.gov/enrd/Consent_Decrees.html. Copies of the proposed agreements may also be obtained by mail from the Consent Decree Library, P.O. Box 7611, U.S. Department of Justice, Washington, DC 20044-7611 or by faxing or e-mailing a request to Tonia Fleetwood (tonia.fleetwood@usdoj.gov), fax no. (202) 514-0097, phone confirmation number (202) 514-1547. In requesting from the Consent Decree Library a copy of the consent decree for United States v. Polyfoam Corp., Civil Action No. 4:11-cv-40134, please enclose a check in the amount of $9.75 (25 cents per page reproduction cost) payable to the U.S. Treasury.

Ronald G. Gluck,
Assistant Section Chief, Environmental Enforcement Section, Environment and Natural Resources Division.

[FR Doc. 2011-18332 Filed 7-20-11; 8:45 am]

BILLING CODE 4410-15-P